DEPARTMENT OF ENERGY

Federal Energy Regulatory Commission

[Docket No. Project No. 15314-001]

Western Navajo Pumped Storage 1, LLC; Notice of Preliminary Permit Application Accepted for Filing and Soliciting Comments, Motions To Intervene, and Competing Applications

On March 14, 2025, Western Navajo Pumped Storage 1, LLC, filed an application for a preliminary permit, pursuant to section 4(f) of the Federal Power Act (FPA), proposing to study the feasibility of the Western Navajo Pumped Storage Project 1 to be located near the City of Page in Coconino County, Arizona. The proposed project would be located entirely on federal land held in trust for the Navajo Nation. The sole purpose of a preliminary permit, if issued, is to grant the permit holder priority to file a license application during the permit term. A preliminary permit does not authorize the permit holder to perform any land-disturbing activities or otherwise enter upon lands or waters owned by others without the owners' express permission.

The proposed project would be a closed-loop pumped storage project that would consist of the following new facilities: (1) an upper reservoir with a maximum elevation of 4,605 feet above mean sea level (MSL), and a storage capacity of 10,090 acre-feet; (2) a lower reservoir with a maximum elevation of 3,905 feet MSL, and a storage capacity of 10,090 acre-feet; (3) a 38-foot-diameter penstock, with a 2,400-foot-long headrace tunnel; (4) a 320-foot-long by 80-foot-wide by 150-foot-high powerhouse containing three reversible Francis-type pump turbine units with a total installed capacity of 765 megawatts; (5) another 38-foot-diameter penstock, with a 9,249-foot-long tailrace tunnel; (6) a 230-kilovolt, 0.8 mile-long transmission line; and (7) appurtenant facilities. The water used to initially fill the reservoirs and supplement evaporative losses would come from an existing, unused intake at the Navajo Generation Station, with refills as needed to address losses from evaporation and infiltration. The estimated annual generation of the Western Navajo Pumped Storage 1 Project would be 2,066 gigawatt-hours.

Applicant Contact: Mr. Erik Steimle, Western Navajo Pumped Storage 1, LLC, 100 S Olive Street West Palm Beach, FL 33401; erik@ryedevelopment.com; phone: (503) 998-0230.

FERC Contact: Lee Baker; email: everard.baker@ferc.gov; phone: (202) 502-8554.

Comments, motions to intervene, competing applications (without notices of intent), or notices of intent to file competing applications should be submitted within 60 days from the issuance of this notice. Competing applications and notices of intent must meet the requirements of 18 CFR 4.36.

The Commission's Office of Public Participation (OPP) supports meaningful public engagement and participation in Commission proceedings. OPP can help members of the public, including landowners, community organizations, Tribal members, and others, access publicly available information and navigate Commission processes. For public inquiries and assistance with filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary Debbie-Anne A. Reese, Federal Energy Regulatory Commission, 888 First Street NE, Washington, DC 20426. Submissions sent via any other carrier must be addressed to: Debbie-Anne A. Reese, Secretary, Federal Energy Regulatory Commission, 12225 Wilkins Avenue, Rockville, Maryland 20852. The first page of any filing should include docket number P-15314-001.

More information about this project, including a copy of the application, can be viewed or printed on the “eLibrary” link of Commission's website at http://www.ferc.gov/docs-filing/elibrary.asp. Enter the docket number (P-15314) in the docket number field to access the document. For assistance, contact FERC Online Support.

Dated: April 9, 2025.
Carlos D. Clay,
Deputy Secretary.

[FR Doc. 2025-06365 Filed 4-14-25; 8:45 am]

BILLING CODE 6717-01-P